ADMINISTRATIVE CONFERENCE OF THE UNITED STATES

Notice of Public Meeting of the Assembly of the Administrative Conference of the United States

AGENCY: Administrative Conference of the United States.

ACTION: Notice.

SUMMARY: Pursuant to the Federal Advisory Committee Act, the Assembly of the Administrative Conference of the United States will hold a meeting to consider four proposed recommendations and to conduct other business. This meeting will be open to the public.

DATES: The meeting will take place on Thursday, June 13, 2019, 9:30 a.m. to 4:30 p.m. The meeting may adjourn early if all business is finished.

ADDRESSES: The meeting will be held at The George Washington University Law School (GW Law), 2000 H Street NW, Washington, DC 20052 (Jacob Burns Moot Court Room).

FOR FURTHER INFORMATION CONTACT: Shawne McGibbon, General Counsel (Designated Federal Officer), Administrative Conference of the United States, Suite 706 South, 1120 20th Street NW, Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: In addition to receiving updates on past, current, and pending Conference initiatives (including a presentation on the Conference's research into the use of artificial intelligence in federal agencies), the Assembly will consider minor amendments to its bylaws and four proposed recommendations which are described below:

Agency Guidance Through Interpretive Rules. This proposed recommendation lists steps that agencies can take to offer members of the public the opportunity to propose alternative approaches to those presented in an interpretive rule and to encourage, when appropriate, public participation in the adoption or modification of interpretive rules. It largely extends to interpretive rules the best practices for statements of policy adopted in Recommendation 2017-5, Agency Guidance Through Policy Statements, with appropriate modifications to account for instances in which there are differences between interpretive rules and statements of policy.

Selection of Administrative Law Judges. This proposed recommendation addresses the processes and procedures that agency heads should consider establishing when exercising their authority under Executive Order 13843 to hire administrative law judges (ALJs). It encourages agencies to advertise ALJ positions in order to reach a wide pool of applicants, to publish minimum qualifications and selection criteria for ALJ hiring, and to develop policies for the review of ALJ applications.

Public Availability of Agency Guidance. This proposed recommendation offers agencies best practices for promoting widespread availability of guidance documents. It urges agencies to: Develop and disseminate internal policies for publishing, tracking, and obtaining input on guidance documents; post guidance documents online in a manner that facilitates public access; and undertake affirmative outreach to notify members of the public of new or updated guidance documents.

Revised Model Rules for Implementation of the Equal Access to Justice Act. This proposed recommendation proposes a substantial revision of the Conference's 1986 model rules governing agency procedures for the submission and consideration of applications under the Equal Access to Justice Act, which requires the government to pay the expenses of certain prevailing parties in agency adjudications. The revised model rules reflect, among other things, changes in law and agency practice since 1986.

Additional information about the proposed recommendations and the order of the agenda, as well as other materials related to the meeting, can be found at the 71st Plenary Session page on the Conference's website: https://www.acus.gov/meetings-and-events/plenary-meeting/71st-plenary-session.

Public Participation: The Conference welcomes the attendance of the public at the meeting, subject to space limitations, and will make every effort to accommodate persons with disabilities or special needs. Members of the public who wish to attend in person are asked to RSVP online at the 71st Plenary Session web page shown above, no later than two days before the meeting, in order to facilitate entry and to ensure adequate seating. Members of the public who attend the meeting may be permitted to speak only with the consent of the Chairman and the unanimous approval of the members of the Assembly. If you need special accommodations due to disability, please inform the Designated Federal Officer noted above at least 7 days in advance of the meeting. The public may also view the meeting on GW Law's YouTube Channel: https://youtube.com/user/gwlawschool. Alternatively, an archived video recording of the meeting will be available on the Conference's website shortly after the conclusion of the event: https://livestream.com/ACUS.

Written Comments: Persons who wish to comment on any of the proposed recommendations may do so by submitting a written statement either online by clicking “Submit a comment” on the 71st Plenary Session web page shown above or by mail addressed to: June 2019 Plenary Session Comments, Administrative Conference of the United States, Suite 706 South, 1120 20th Street NW, Washington, DC 20036. Written submissions must be received no later than 10:00 a.m. (EDT), Thursday, June 6, to ensure consideration by the Assembly.

Dated: May 22, 2019.
Shawne McGibbon,
General Counsel.

[FR Doc. 2019-11053 Filed 5-24-19; 8:45 am]

BILLING CODE 6110-01-P